DEPARTMENT OF AGRICULTURE

Forest Service

Proposed Land Exchange With Leslie Resources, Inc.

AGENCY: Forest Service, USDA.

ACTION: Notice of intent to prepare an environmental impact statement.

SUMMARY: This notice provides preliminary information regarding a proposed land exchange between the USDA Forest Service, Daniel Boone National Forest (Forest Service), and Leslie Resources, Inc. of Hazard (Leslie Resources), Kentucky and invites public participation in the environmental review process.

The Forest Service is proposing to accept an offer to exchange 98.17 acres of land located on Rockhouse Branch of Buffalo Creek in Owsely County, Kentucky, owned by Leslie Resources, for two Federal tracts administered by the Forest Service. Federal areas to be considered are Tract 107Ab (52.15 acres), located on Langdon Branch of Leslie County, Kentucky and Tract 745 (39.96 acres), located on Spicer Fork, Perry County, Kentucky.

The “Land and Resource Management Plan” for the Daniel Boone National Forest (DBNF) directs a consolidation strategy for the ownership pattern of National Forest lands. This exchange would partially consolidate National Forest lands in Owsley County and eliminate two isolated tracts from the National Forest landbase.

The environmental effects of this action will be analyzed and documented in an environmental impact statement (EIS). The Responsible Official will use this information in making the final determination of whether to accept the offer.

DATES: Comments concerning the scope of this analysis should be received by April 25, 2001.

ADDRESSES: Submit written comments to Alan R. Colwell, Interdisciplinary Team Leader, London Ranger District, Daniel Boone National Forest, 761 South Laurel Road, London, KY 40744.

FOR FURTHER INFORMATION CONTACT: Alan R. Colwell, Interdisciplinary Team Leader, London Ranger District, Daniel Boone National Forest, 761 South Laurel Road, London, KY 40744 Telephone—(606) 864-4163.

Responsible Official: The Forest Supervisor for the Daniel Boone National Forest, located at 1700 Bypass Road, Winchester, KY 40391, is the Responsible Official for this action.

SUPPLEMENTARY INFORMATION:

Need for the Proposal

The “Land and Resource Management Plan” (Forest Plan), required by the Forest and Rangeland Renewable Resources Planning Act of 1974, describes the current and desired future condition of the lands and natural resources of the Daniel Boone National Forest (DBNF). The Forest Plan also contains the guidance and direction to move the forest toward the desired state. The need for any action or proposal is found in the broad context of the total Forest as expressed in the Forest Plan.

The Forest Plan addresses the need for improving the landownership pattern of National Forest lands within the DBNF boundary. Ideally, federal holdings should be concentrated in large, contiguous blocks (as opposed to smaller, scattered tracts). Reasons cited in the Forest Plan are to increase favorable water flows and improve water quality (Forest Plan, pages III-6, IV-2, and C-1) and to reduce management costs (Forest Plan, pages II-24, III-8, IV-1, IV-43, IV-72, and C-1). Although the DBNF has large blocks of good consolidation within its boundary, it also has areas where federal ownership is sparse and scattered (Forest Plan, page IV-72). This proposal lies within the Redbird Ranger District. The landownership pattern for the district is similar to that described for the DBNF and the general guidelines are applicable at the smaller scale.

Instructions regarding the consolidation of landownership are found in the Forest Plan primarily in Chapter IV.

(a) Goals (IV-1, 2)

Manage the Forest in a manner that is sensitive to economic efficiency.

Manage the transportation system for increased cost-effective and efficiency to meet resource management needs.

Consolidate federal ownership, within land adjustment boundaries, to resolve problems related to intermingled landownership.

Acquire lands that provide favorable flows of water and provide the opportunities to improve water quality.

(b) Objectives

The Lands section under Resource Objectives (Forest Plan, IV-72) states, in part:

The bulk of the Forest Adjustment Program will concentrate on consolidation of the large blocks of Federal land and disposal by exchange of the scattered Federal land. This will improve the efficiency of management and effective production of goods and services.

(c) Management Prescriptions (General Direction/Standards and Guidelines)

Land Exchange Agreements should be considered where protection of T&E [Threatened and Endangered] species habitat, may occur as the result of such exchange (IV-11)

Develop a landownership pattern that will provide efficiency of administration of Daniel Boone National Forest lands. This will involve land exchange, acquisition and jurisdictional transfers (IV-43).

Additional guidance is contained in the Forest Plan, Appendix C—Landownership Adjustment Plan.

A basic objective of the Forest Plan is emphasized; that the Forest Service is to dispose of small isolated tracts and consolidate large contiguous blocks to improve efficiency of management and administration and increase favorable water flows and improve water quality.

The Landownership Adjustment Plan also contains language specific to the Redbird Ranger District:

Based on the assumption that acquisition funds will continue to be low, if any, the adjustment plan directs the disposal by exchange of these areas of scattered tracts with priority on lands for consolidation of the main unit, favorable water flow, deteriorating land where restoration would improve overall water quality and high production timber land.

Tracts 107Ab and 745 are two of 43 isolated tracts identified by the Forest Service as potential exchange candidates.

Actual experience, since the Forest Plan was developed, has shown that the availability of acquisition funding varies widely from year to year. Funds for direct acquisition may be available at some point in the future.

Purpose of This Proposal

This action would move the DBNF toward consolidation by exchanging two isolated federal tracts located on the Redbird Ranger District for a single privately owned track that is nearly surrounded by National Forest System land.

(a) This action would help the DBNF meet Forest Management Goals (Daniel Boone Forest Plan, Pages IV-1, 2) in the following ways:

(1) Manage the Forest in a manner that is sensitive to economic efficiency.

This proposal—Presently, the minimum time required to access Tract 107 Ab from the Redbird District office is 1½ hours under optimum conditions. Tract 745 requires over two hours to reach including 30-45 minutes of foot travel. The private tract can be reached from the office in approximately one hour.

(2) Manage the transportation system for increased cost effectiveness and efficiency to meet resource management needs.

This proposal—Both federal tracts are landlocked. Tract 745 requires the acquisition of ¼ mile of right-of-way and the reconstruction of ¼ mile of an old mine road to access a public road. Tract 107 Ab requires the acquisition of approximately 1¼ miles of right-of-way and possibly the same amount of road construction or reconstruction depending on the disposition of the surrounding land currently being strip-mined. The private track would require no right-of-way if accessed from above and approximately 700 feet if from below. Road construction would be approximately 700 feet to 2000 feet depending on the high or low route.

(3) Consolidate federal ownership, within land adjustment boundaries, to resolve problems related to intermingled landownership.

(4) Acquire lands that provide favorable flows of water and provide the opportunities to improve water quality.

This proposal—A slight net gain in water quality and watershed protection may occur as a result of the exchange because the tract to be gained by the government contains a perennial stream. Tracts 107Ab and 745 are on intermittent or ephemeral streams.

(b) Resource Objectives

The Resource Objective of improving the efficiency of management and effective production of goods and services would be met through consolidation by reducing landline maintenance, road construction, access time, trespass and claims.

(c) Forest Wide General Direction/Standards and Guidelines

(1) Land Exchange Agreements should be considered where protection of T&E species habitat may occur as the result of such exchange (Forest Plan, IV-11).

This proposal—While no federally listed species are known to occur on National Forest lands on the Redbird District, the Indiana bat (endangered) has been captured within the administrative boundary. It is assumed that the entire forested area on the district is summer roosting habitat. The type of habitat found on the Leslie Resources tract is similar to that found on both of the government tracts. The proposed exchange would result in a net gain, in acres, of Indiana bat habitat that is under Federal ownership. The biological evaluation for the project, and the supporting concurrence by the U.S. Fish and Wildlife Service has determined “Not likely to affect” the Indiana bat or any other federally listed species.

(2) Develop a landownership pattern that will provide efficiency of administration of Daniel Boone National Forest lands. This will involve land exchange, acquisition and jurisdictional transfers (Forest Plan IV-43).

This proposal—Implementing the exchange proposal would reduce boundary line location and maintenance needs by 4.15 miles of line and 27 corners. In addition, problems associated with intermingled landownership (for example: 107Ab-timber trespass, 745-no access) would be reduced.

(3) Weeks Law Funds and exchange will be utilized to consolidate National Forest Lands and secure low productive lands and lands having soil/water improvement needs so as to provide for favorable water flow and future timber production.

This proposal—None of the tracts involved are considered low productive lands. The watershed is stable and water quality good on all tracts.

(4) Disposal of federal tracts will be coordinated with other resource areas to assure the following are given adequate consideration—

(i) Floodplains and riparian areas.

(ii) Public recreation needs.

(iii) Significant historical or archeological sites.

(iv) Threatened and endangered species of wildlife or vegetation.

(v) Key wildlife habitat.

This proposal—There are 2.3 acres of floodplain areas on the tracts administered by the DBNF. The private tract has 5.5 acres of floodplains. The exchange would result in a net floodplain increase of 3.2 acres under Federal ownership. Riparian areas are limited to narrow branch bottoms on intermittent streams. All of the tracts are considered to have little potential for recreation beyond the present use of hunting and root collection. The archaeological survey found no significant sites on any of the tracts. The Kentucky State Historical Preservation Officer concurred with this determination. See above for the discussion on threatened and endangered species. There is no key wildlife habitat identified on any of the tracts.

(d) Appendix C—Landownership Adjustment Plan.

This proposal—Two of the forty three isolated tracts identified as exchange candidates on the Redbird Ranger District would be exchanged for one tract in the zone of consolidation. The efficiency of administration and management would be increased and more favorable water flows and improved water quality is expected due to a net increase in intermittent stream channels of National Forest land.

The Landownership Adjustment Plan contains two sets of criteria to be considered in exchanges (Page C-5, 6). The first list contains criteria used to evaluate tracts being considered for acquisition. A second list is used to evaluate tracts being considered for exchange.

Criteria to consider for the acquisition tract:

(1) Protection of threatened and endangered species habitat.

This proposal—Potential habitat for the Indiana Bat (Myotis sodalis) occurs on the tract to be acquired. The exchange would result in a net increase in the amount of this habitat under Federal ownership.

(2) Meeting public demands for dispersed and developed recreation, wildlife and fish habitat, improved water quality and yields, soil and other resource production.

This proposal—The watershed of the private tract is currently vegetated and stable. This would be maintained. Dispersed recreation and wildlife management should improve through consolidation.

(3) Prevention and or elimination of unacceptable adverse impacts to National Forest resources.

This proposal—Forest protection in terms of fire control, trespass, and claims should improve. The tract that would be gained by the Forest Service is more accessible and oversight of the land will improve.

(4) Opportunity to reduce resources management costs for timber, recreation, wildlife, fish and other resources.

This proposal—Management costs are expected to decrease because of easier and efficient access.

(5) Opportunity to reduce or eliminate management cost sin boundary line location, rights-of-way acquisition, road and trail development.

The proposal—The costs associated with boundary lines and all aspects of transportation development would be reduced.

(6) Increase the commercial timber base for sustained yields of high quality hardwood and softwoods sawtimber and veneer products.

This proposal—The timber base would be increased by approximately 6 acres.

(7) Providing public access to National Forest land and resources.

This proposal—The consolidation of National Forest land provides more and better options for the development of public access.

(8) Improvement or consolidation of the National Forest landownership pattern.

This proposal—National Forest land would be consolidated through this exchange.

(9) Some cultivated land may be acquired as part of a larger parcel that is suitable for National Forest administration.

This proposal—No cultivated land is involved.

(10) Resource outputs and resource protection for Congressionally designated areas.

This proposal—No Congressionally designated areas are involved.

(11) Costs to administer and/or develop after acquisition.

This proposal—The tract to be acquired is similar to the federal lands surrounding it. No unusual administration or development costs would be anticipated.

(12) Suitability of land for National Forest administration considering past and existing land uses, location surrounding, or adjacent land use, mineral ownership and deep constraints, existing resources and potential uses.

This proposal—There are no known situational encumbrances that would render this tract to be less than suitable for inclusion into the National Forest System for a broad range of uses.

Criteria to consider for the exchange tracts:

(1) Most of the land exchange base is scattered, isolated, and inefficient to manage, but is needed for exchange to provide or protect public resources in areas where ownership can be consolidated through the land exchange process.

This Proposal—The Land Ownership Adjustment Plan prepared by the Redbird District identifies tracts 107Ab and 745 as candidates for exchange. These two tracts are completely isolated from other National Forest property.

(2) Opportunity is offered to reduce or eliminate management costs in boundary line location, right-of-way acquisition and access development, trespass, title claims, special use administration, and resource management.

This Proposal—Implementing the exchange proposal would reduce boundary line location and maintenance needs by 4.15 miles of line and 27 corners. in addition, problems, associated with intermingled landownership (for example: 107Ab-timber trespass, 745-no access) would be reduced. Neither of these tracts is closer than two air miles to a federally consolidated tract.

(3) Land has become non-National Forest in character or is unsuitable for continued National Forest administration due to past or existing land uses, encumbrances, surrounding, or adjacent land use and deed constraints.

This Proposal—Tract 107Ab will eventually be an island surrounded by a reclaimed strip mine of hundreds of acres in size.

(4) Land is suitable and needed for community expansion and development. Private development of the land would not unreasonably conflict with forest land management objectives and administration of National Forest resources.

This Proposal—There are no communities in the vicinity of the tracts. The exchange proposal would contribute to economic stability of the area by providing continued employment for those living and working in the area.

(5) Opportunity is offered to achieve needed resource and land management objectives through land exchange.

This Proposal—Acquiring the one private tract through exchange would help consolidate portions of the National Forest.

The land would be managed for multiple-use and would give Federal protection to any significant archaeological sites or habitat for Proposed, Endangered, Threatened or Sensitive (PETS) species that may occur. The tracts to be acquired are known to contain suitable habitat for the Indiana Bat (IB). This proposal offers multiple opportunities to achieve needed resource and land management objectives.

Scoping Process

The Daniel Boone National Forest is seeking information, comments, and assistance from Federal, State and local agencies and other individuals or organizations that may be interested in or affected by the proposed action.

To facilitate public participation several measures are being taken. Information about the project proposal is being mailed to all who are on the current list to receive scoping information from the Redbird Ranger District. Public notices are being published four consecutive times in the newspapers of Perry, Leslie and Owsley Counties, Kentucky and once each in the Manchester Enterprise, Manchester, Kentucky and the Herald Leader, Lexington, Kentucky. Public notices are also being placed at post offices in the vicinity of the exchange tracts.

Additionally, the public may visit Forest Service officials at any time during the analysis and prior to the decision.

Comments submitted during the scoping process should be in writing. They should be specific to the action being proposed and should describe as clearly and completely as possible any issues the commenter has with the proposal. This input will be used in preparation of the Draft Environmental Impact Statement (DEIS). The scoping process includes:

(a) Identifying potential issues.

(b) Identifying issues to be analyzed in depth.

(c) Eliminating nonsignificant issues or those previously covered by a relevant previous environmental analysis.

(d) Exploring additional alternatives.

(e) Identifying potential environmental effects of the proposed action and alternatives.

Preliminary Issues

Preliminary issues identified for the proposed exchange are as follows:

(a) If exchanged, it is likely that Tract 107Ab will be strip mined, using the controversial method known as “mountain top removal”.

(b) Consolidation through the purchase of land is preferred to exchange by some people. National Forest lands should not be given up once acquired.

Preliminary Alternatives

(a) No Action: The exchange would not take place.

(b) Proposed Action: The Daniel Boone National Forest would exchange Tract 107Ab (52.15 acres), located on Langdon Branch in Leslie County, Kentucky, and Tract 745 (39.96 acres), located on Spicer Fork in Perry County, Kentucky for a 98.17 acre tract located on the Rock House Branch of Buffalo Creek in Owsley County, Kentucky, which is owned by Leslie Resources, Inc.

(c) An alternative to purchase was discussed. The proponents declined, being interested only in the exchange. The alternative will not be considered further.

Estimated Dates for DEIS and FEIS

The DEIS is expected to be filed with the Environmental Protection Agency and to be available for public comment by July 2001. At that time, the Environmental Protection Agency will publish a notice of availability of the DEIS in the Federal Register. The comment period on the DEIS will be 45 days from the date the Environmental Protection Agency publishes the notice of availability in the Federal Register.

The Forest Service believes, at this early stage, it is important to give reviewers notice of several court rulings related to public participation in the environmental review process. First, reviewers of DEIS must structure their participation in the environmental review of the proposal so that it is meaningful and alerts an agency to the reviewer's position and contentions. Vermont Yankee Nuclear Power Corp. v. NRDC. 435 U.S. 519. 553 (1978). Also, environmental objectives that could be raised at the DEIS stage but that are not raised until after the completion of the Final Environmental Impact Statement (FEIS) may be waived or dismissed by the courts. City of Angoon v. Hodel, 803 F.2d 1016, 1022 (9th Cir. 1986) and Wisconsin Heritage, Inc. v. Harris, 490 F. Supp. 1334 (E.D.Wis. 1980). Because of these court rulings, it is very important that those interested in this proposed action participate by the close of the 45-day comment period so that substantive comments and objections are made available to the Forest Service at a time when it can meaningfully consider them and respond to them in the FEIS.

To assist the Forest Service in identifying and considering issues and concerns on the proposed action, comments on the DEIS should be as specific as possible. It is also helpful if the comments refer to specific pages or chapters of the draft statement. Comments may also address the adequacy of the DEIS or the merits of the alternatives formulated and discussed in the statement. Reviewers may wish to refer to the Council on Environmental Quality Regulations for implementing the procedural provision of the National Environmental Policy Act of 40 CFR 1503.3 in addressing these points.

After the comment period ends on the DEIS, the comments will be analyzed, considered, and responded to by the Forest Service in preparing the FEIS. The FEIS is scheduled to be completed in September 2001. The responsible official will consider the comments, responses, environmental consequences discussed in the FEIS, and applicable laws, regulations, and policies in making a decision regarding this proposed action.

The responsible official will document the decision and reasons for the decision in the Record of Decision. That decision will be subject to appeal in accordance with 36 CFR part 215.

Dated: March 5, 2001.
Benjamin T. Worthington,
Forest Supervisor.

[FR Doc. 01-6383 Filed 3-14-01; 8:45 am]

BILLING CODE 3410-11-M